DEPARTMENT OF COMMERCE

International Trade Administration

Noitce of Initiation of Five-Year (“Sunset”) Reviews

AGENCY: Import Administration, International Trade Administration, Department of Commerce.

SUMMARY: In accordance with section 751(c) of the Tariff Act of 1930, as amended (“the Act”), the Department of Commerce (“the Department”) is automatically initiating five-year (“sunset”) reviews of the antidumping and countervailing duty orders or suspended investigation listed below. The International Trade Commission (“the Commission”) is publishing concurrently with this notice its notices of Institution of Five-Year Reviews covering these same orders.

FOR FURTHER INFORMATION CONTACT: Eun W. Cho, or James Maeder, Office of Policy, Import Administration, International Trade Administration, U.S. Department of Commerce, at (202) 482-1698, or 482-3330, respectively, or Vera Libeau, Office of Investigations, U.S. International Trade Commission, at (202) 205-3176.

SUPPLEMENTARY INFORMATION:

Initiation of Reviews

In accordance with 19 CFR 351.218 (see Procedures for Conducting Five-year (“Sunset”) Reviews of Antidumping and Countervailing Duty Orders, 63 FR 13516 (March 20, 1998)), we are initiating sunset reviews of the following antidumping and countervailing duty orders or suspended investigation:

DOC Case No. | ITC Case No. | Country | Product
A-357-809 | 731-TA-707 | Argentina | Seamless Pipe.
A-351-826 | 731-TA-708 | Brazil | Seamless Pipe.
A-428-820 | 731-TA-709 | Germany | Seamless Pipe.
A-475-814 | 731-TA-710 | Italy | Seamless Pipe.
A-357-810 | 731-TA-711 | Argentina | Oil Country Tubular Goods.
A-475-816 | 731-TA-713 | Italy | Oil Country Tubular Goods.
A-588-835 | 731-TA-714 | Japan | Oil Country Tubular Goods.
A-580-825 | 731-TA-715 | Korea | Oil Country Tubular Goods.
A-201-817 | 731-TA-716 | Mexico | Oil Country Tubular Goods.
A-570-838 | 731-TA-722 | China (the PRC) | Honey (Suspended investigation).
C-475-815 | 701-TA-362 | Italy | Seamless Pipe.
C-475-817 | 701-TA-364 | Italy | Oil Country Tubular Goods.

Statute and Regulations

Pursuant to sections 751(c) and 752 of the Act, an antidumping (“AD”) or countervailing duty (“CVD”) order will be revoked, or the suspended investigation will be terminated, unless revocation or termination would be likely to lead to continuation or recurrence of (1) Dumping or a countervailable subsidy, and (2) material injury to the domestic industry.

The reviews will be conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Filing Information

As a courtesy, we are making information related to sunset proceedings, including copies of the Sunset Regulations and Sunset Policy Bulletin, the Department's schedule of sunset reviews, case history information (e.g., previous margins, duty absorption determinations, scope language, import volumes), and service lists, available to the public on the Department's sunset internet website at the following address: “http://www.ita.doc.gov/import_admin/records/sunset/”.

All submissions in the sunset reviews must be filed in accordance with the Department's regulations regarding format, translation, service, and certification of documents. These rules can be found at 19 CFR 351.303 (2000). Also, we suggest that parties check the Department's sunset website for any updates to the service list before filing any submissions. We ask that parties notify the Department in writing of any additions or corrections to the list. We also would appreciate written notification if you no longer represent a party on the service list.

Because deadlines in a sunset review are, in many instances, very short, we urge interested parties to apply for access to proprietary information under administrative protective order (“APO”) immediately following publication in the Federal Register of the notice of initiation of the sunset review. The Department's regulations on submission of proprietary information and eligibility to receive access to business proprietary information under APO can be found at 19 CFR 351.304-306 (see Antidumping and Countervailing Duty Proceedings: Administrative Protective Order Procedures; Procedures for Imposing Sanctions for Violation of a Protective Order, 63 FR 24391 (May 4, 1998)).

Information Required From Interested Parties

Domestic interested parties (defined in 19 CFR 351.102 (2000)) wishing to participate in the sunset reviews must respond not later than 15 days after the date of publication in the Federal Register of the notice of initiation by filing a notice of intent to participate. The required contents of the notice of intent to participate are set forth in the Sunset Regulations at 19 CFR 351.218(d)(1)(ii). In accordance with the Sunset Regulations, if we do not receive a notice of intent to participate from at least one domestic interested party by the 15-day deadline, the Department will automatically revoke the orders without further review.

If we receive a notice of intent to participate from a domestic interested party, the Sunset Regulations provide that all parties wishing to participate in the sunset review must file substantive responses not later than 30 days after the date of publication in the Federal Register of the notice of initiation. The required contents of a substantive response are set forth in the Sunset Regulations at 19 CFR 351.218(d)(3). Note that certain information requirements differ for foreign and domestic parties. Also, note that the Department's information requirements are distinct from the International Trade Commission's information requirements. Please consult the Sunset Regulations for information regarding the Department's conduct of sunset reviews.¹ Please consult the Department's regulations at 19 CFR Part 351 (2000) for definitions of terms and for other general information concerning antidumping duty order proceedings at the Department.

¹ A number of parties commented that these interim-final regulations provided insufficient time for rebuttals to substantive responses to a notice of initiation (Sunset Regulations, 19 CFR 351.218(d)(4)). As provided in 19 CFR 351.302(b) (2000), the Department will consider individual requests for extension of that five-day deadline based upon a showing of good cause.

This notice of initiation is being published in accordance with section 751(c) of the Act and 19 CFR 351.218(c).

Dated: June 16, 2000.
Richard W. Moreland,
Acting Assistant Secretary for Import Administration.

[FR Doc. 00-16670 Filed 6-30-00; 8:45 am]

BILLING CODE 3510-DS-P